DEPARTMENT OF COMMERCE

International Trade Administration

[A-533-847, A-570-934]

1-Hydroxyethylidene-1, 1-Diphosphonic (HEDP) Acid from India and the People's Republic of China: Final Results of Sunset Reviews and Revocation of Antidumping Duty Orders

AGENCY: Enforcement and Compliance, International Trade Administration, Department of Commerce.

SUMMARY: On March 3, 2014, the Department of Commerce (“the Department”) initiated the sunset reviews of the antidumping duty orders on 1-hydroxyethylidene-1, 1-diphosphonic acid (“HEDP”) from India and the People's Republic of China (“PRC”). Because the domestic interested parties did not participate in these sunset reviews, the Department is revoking these antidumping duty orders.

DATES: Effective Date: June 2, 2014.

FOR FURTHER INFORMATION CONTACT: Charles Riggle, AD/CVD Operations, Enforcement and Compliance, International Trade Administration, U.S. Department of Commerce, 14th Street and Constitution Avenue NW., Washington, DC 20230; telephone: (202) 482-0650.

SUPPLEMENTARY INFORMATION:

Background

On April 28, 2009, the Department issued antidumping duty orders on HEDP from India and the PRC.¹ On March 3, 2014, the Department initiated sunset reviews of these orders.² We did not receive a notice of intent to participate from domestic interested parties in these sunset reviews by the deadline date. As a result, in accordance with 19 CFR 351.218(d)(1)(iii)(A), the Department determined that no domestic interested party intends to participate in these sunset reviews, and on March 24, 2014, we notified the International Trade Commission, in writing, that we intended to issue a final determination revoking these antidumping duty orders.³

¹ See 1-Hydroxyethylidene-1, 1-Diphosphonic Acid from India and the People's Republic of China: Antidumping Duty Orders, 74 FR 19197 (April 28, 2009).

² See Initiation of Five-Year (“Sunset”) Review, 79 FR 11762 (March 3, 2014).

³ See 19 CFR 351.218(d)(1)(iii)(B)(2). Because the original deadline for notifying the International Trade Commission fell on a Sunday, the deadline for doing so was March 24, 2014. See Notice of Clarification: Application of “Next Business Day” Rule for Administrative Determination Deadlines Pursuant to the Tariff Act of 1930, As Amended, 70 FR 24533 (May 10, 2005).

Scope of the Orders

The merchandise subject to the orders includes all grades of aqueous, acidic (non-neutralized) concentrations of 1-hydroxyethylidene-1, 1-diphosphonic acid,⁴ also referred to as hydroxethlylidenediphosphonic acid, hydroxyethanediphosphonic acid, acetodiphosphonic acid, and etidronic acid. The CAS (Chemical Abstract Service) registry number for HEDP is 2809-21-4. The merchandise subject to the order is currently classified in the Harmonized Tariff Schedule of the United States (“HTSUS”) at subheading 2931.00.9043. It may also enter under HTSUS subheading 2811.19.6090. While HTSUS subheadings are provided for convenience and customs purposes only, the written description of the scope of the order is dispositive.

⁴ C2H8O7P2 or C(CH3)(OH)(PO3H2)2.

Revocation

Pursuant to section 751(c)(3)(A) of the Tariff Act of 1930, as amended (“the Act”) and 19 CFR 351.218(d)(1)(iii)(B)(3), if no domestic interested party files a notice of intent to participate, the Department shall, within 90 days after the initiation of the review, issue a final determination revoking the order. Because no domestic interested party filed a notice of intent to participate, the Department finds that no domestic interested party is participating in these sunset reviews. Therefore, we are revoking the antidumping duty orders on HEDP from India and the PRC.

Effective Date of Revocation

The effective date of revocation is April 28, 2014, the fifth anniversary of the date of publication in the Federal Register of these antidumping duty orders. Pursuant to section 751(c)(3)(A) of the Act and 19 CFR 351.222(i)(2)(i), the Department intends to issue instructions to U.S. Customs and Border Protection, 15 days after publication of this notice, to terminate the suspension of liquidation of the merchandise subject to these orders entered, or withdrawn from warehouse, for consumption on or after April 28, 2014. Entries of subject merchandise prior to the effective date of revocation will continue to be subject to suspension of liquidation and antidumping duty deposit requirements. The Department will complete any pending administrative reviews of these orders and will conduct administrative reviews of subject merchandise entered prior to the effective date of revocation in response to appropriately filed requests of review.

These final results of the five-year (sunset) reviews and notice are published in accordance with sections 751(c) and 777(i)(1) of the Act.

Dated: May 21, 2014.
Paul Piquado,
Assistant Secretary for Enforcement and Compliance.

[FR Doc. 2014-12728 Filed 5-30-14; 8:45 am]

BILLING CODE 3510-DS-P